DEPARTMENT OF TRANSPORTATION

Surface Transportation Board

[STB Finance Docket No. 34132]

Norfolk Southern Railway Company—Lease and Operation Exemption—The Burlington Northern and Santa Fe Railway Company

AGENCY: Surface Transportation Board.

ACTION: Notice of exemption.

SUMMARY: The Board grants an exemption under 49 U.S.C. 10502, from the prior approval requirements of 49 U.S.C. 11323-25, for Norfolk Southern Railway Company (NSR) to lease and operate over approximately 1.2 miles of The Burlington Northern and Santa Fe Railway Company (BNSF) line, known as the Norwood Hill Track, extending between mileposts BNSF 734.4 = NSR 800.6 (“Block One”) and BNSF 735.6 = NSR 799.4 (“Block Two”) at Birmingham, in Jefferson County, AL.

DATES: This exemption will be effective March 17, 2002. Petitions to stay must be filed by March 4, 2002, and petitions to reopen must be filed by March 12, 2002.

ADDRESSES: Send an original and 10 copies of pleadings referring to STB Finance Docket No. 34132 to: Surface Transportation Board, Office of the Secretary, Case Control Unit, 1925 K Street, NW., Washington, DC 20423-0001. In addition, send one copy of pleadings to petitioners' representatives: James R. Paschall, Norfolk Southern Railway Company, Three Commercial Place, Norfolk, VA 23510-2191 and Peter M. Lee, The Burlington Northern and Santa Fe Railway Company, 2500 Lou Menk Drive, 3rd Floor, P.O. Box 961039, Fort Worth, TX 76161-0039.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Da 2 Da Legal, Room 405, 1925 K Street, NW, Washington, DC 20006. Telephone: (202) 293-7776. [Assistance for the hearing impaired is available through TDD Services 1-800-877-8339.]

Board decisions and notices are available on our web site at “WWW.STB.DOT.GOV.”

Decided: February 8, 2002.
By the Board, Chairman Morgan and Vice Chairman Burkes.
Vernon A. Williams,
Secretary.

[FR Doc. 02-3784 Filed 2-14-02; 8:45 am]

BILLING CODE 4915-00-P